DEPARTMENT OF ENERGY

Federal Energy Regulatory Commission

[Docket Nos. RP01-200-000 and RP00-325-001 (Not Consolidated]

Colorado Interstate Gas Company; Notice of Technical Conference

February 7, 2001.

On December 29, 2000, Colorado Interstate Gas Company (CIG) filed revised tariff sheets in Docket No. RP01-200-000 to implement a new daily Scheduled Imbalance Penalty and a new interruptible Automatic Parking and Lending service (APAL). On January 2, 2001, CIG filed revised pro forma tariff sheets in Docket No. RP00-325-001 to comply with Order No. 637. Protests were filed in both dockets. On January 31, 2001 the Commission issued an order accepting and suspending the tariff sheets field in Docket No. RP01-200-000 to be effective July 1, 2001, subject to refund and subject to the outcome of a technical conference. The conference discussion was to address the proposal APAL service and daily penalty, as well as their relationship to issues raised in CIG's Order No. 637 proceeding.

Take notice that a technical conference to discuss various issues raised by CIG's filings will be held on Wednesday, February 28, 2001, at 9 a.m., in a room to be designed at the Federal Energy Regulatory Commission, 888 First Street, NE., Washington, DC 20426.

Participants should be prepared to address, consistent with the January 31 order, (1) whether existing data support an operational need for the proposed service and penalty, (2) how the proposals in Docket No. RP01-200 relate to CIG's Order No. 637 compliance filing, (3) how GISB nomination processes are used to balance scheduled receipts and deliveries on CIG's system, (3) how CIG uses line pack and storage inventory to accommodate imbalances, and (4) any other concerns raised by CIG's filings.

All interested persons and Staff are permitted to attend.

David P. Boergers,
Secretary.

[FR Doc. 01-3580 Filed 2-12-01; 8:45 am]

BILLING CODE 6717-01-M